DEPARTMENT OF THE TREASURY

Office of Thrift Supervision

12 CFR Part 567

Capital

CFR Correction

In Title 12 of the Code of Federal Regulations, parts 500 to 599, revised as of January 1, 2001, § 567.3 is corrected by removing paragraph (a)(2) on page 328.

[FR Doc. C1-55511 Filed 6-22-01; 8:45 am]

BILLING CODE 1505-01-D